DEPARTMENT OF LABOR

Employment and Training Administration

[TA-W-54,695]

C-Cor Corporation, Repair Services Department, Meriden, Connecticut; Notice of Negative Determination Regarding Application for Reconsideration

By application postmarked June 17, 2004, petitioners requested administrative reconsideration of the Department's negative determination regarding eligibility for workers and former workers of the subject firm to apply for Trade Adjustment Assistance (TAA). The denial notice applicable to workers of C-Cor Corporation, Repair Services Department, Meriden, Connecticut was signed on May 25, 2004, and published in the Federal Register on June 17, 2004 (69 FR 33941).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at C-Cor Corporation, Repair Services Department, Meriden, Connecticut engaged in activities related to the repair of broadband communication products. The petition was denied because the petitioning workers did not produce an article within the meaning of section 222 of the Act.

In the request for reconsideration, petitioners allege that the workers supported production of C-Cor products, namely electronic broadband equipment. They further state that the subject firm outsourced repair of its products to Mexico through the third party.

A company official was contacted to clarify the work performed by the Repair Services Department. It was revealed that the subject group of workers did not support any production at the subject facility but performed repair services of the equipment produced by C-Cor Corporation in Meriden, Connecticut.

The official further confirmed the fact established during the original investigation that C-Cor Corporation, Meriden, Connecticut outsourced its repair services to a non-affiliated domestic company in California, which was the cause of the job eliminations of the subject group of workers.

Repair of products already purchased does not constitute production within the context of eligibility requirements for trade adjustment assistance.

Conclusion

After review of the application and investigative findings, I conclude that there has been no error or misinterpretation of the law or of the facts which would justify reconsideration of the Department of Labor's prior decision. Accordingly, the application is denied.

Signed in Washington, DC, this 12th day of August, 2004.
Linda G. Poole,
Certifying Officer, Division of Trade Adjustment Assistance.

[FR Doc. 04-19099 Filed 8-20-04; 8:45 am]

BILLING CODE 4510-30-M